DEPARTMENT OF LABOR

Employment and Training Administration

[TA-W-55,205]

The Boeing Company, Fabrication Division, Boeing-Oak Ridge, Inc., Oak Ridge, Tennessee; Notice of Revised Determination of Alternative Trade Adjustment Assistance on Reconsideration

By letter dated September 27, 2004, a representative of the Tennessee AFL-CIO requested administrative reconsideration regarding Alternative Trade Adjustment Assistance (ATAA). The certification for Trade Adjustment Assistance was signed on August 27, 2004. The Notice of determination was published in the Federal Register on September 23, 2004 (69 FR 57095).

The initial investigation determined that subject worker group possess skills that are easily transferable.

The petitioner provided new information to show that the workers possess skills that are not easily transferable.

The initial investigation revealed that at least five percent of the workforce at the subject firm is at least fifty years of age and competitive conditions within the industry are adverse.

Conclusion

After careful review of the additional facts obtained on reconsideration, I conclude that the requirements of Section 246 of the Trade Act of 1974, as amended, have been met for workers at the subject firm.

In accordance with the provisions of the Act, I make the following certification:

All workers of The Boeing Company, Fabrication Division, Boeing-Oak Ridge, Inc., Oak Ridge, Tennessee, who became totally or partially separated from employment on or after April 23, 2004 through August 27, 2006, are eligible to apply for adjustment assistance under Section 223 of the Trade Act of 1974, and are also eligible to apply for alternative trade adjustment assistance under section 246 of the Trade Act of 1974.

Signed in Washington, DC, this 1st day of October 2004.
Elliott S. Kushner,
Certifying Officer, Division of Trade Adjustment Assistance.

[FR Doc. E4-2694 Filed 10-15-04; 8:45 am]

BILLING CODE 4510-30-P